DEPARTMENT OF AGRICULTURE

National Agricultural Statistics Service

Notice of the Advisory Committee on Agriculture Statistics; Meeting

AGENCY: National Agricultural Statistics Service, USDA.

ACTION: Notice of meeting.

SUMMARY: In accordance with the Federal Advisory Committee Act, the National Agricultural Statistics Service (NASS) announces a meeting of the Advisory Committee on Agriculture Statistics.

DATES: The Committee meeting will be held from 9 a.m. to 5:45 p.m. on Thursday, March 29, 2012, and from 7 a.m. to 3:45 p.m. on Friday, March 30, 2012. There will be an opportunity for public questions and comments at 1 p.m. on March 30, 2012.

ADDRESSES: The Committee meeting will take place at the L'Enfant Plaza Hotel, 480 L'Enfant Plaza SW., Washington, DC 20024. Written comments may be filed before or within a reasonable time after the meeting with the contact person identified herein at: U.S. Department of Agriculture, National Agricultural Statistics Service, 1400 Independence Avenue SW., Room 5029, South Building, Washington, DC 20250-2000.

FOR FURTHER INFORMATION CONTACT: Hubert Hamer, Executive Director, Advisory Committee on Agriculture Statistics, Telephone: (202) 690-8141, Fax: (202) 690-1311, or email: hubert.hamer@nass.usda.gov.

SUPPLEMENTARY INFORMATION: The Advisory Committee on Agriculture Statistics, which consists of 20 members appointed from 7 categories covering a broad range of agricultural disciplines and interests, has scheduled a meeting on March 29-30, 2012. During this time the Advisory Committee will discuss topics including the launch of the NASS National Operations Center, Annual NASS Program Priorities, Computer Assisted Personal Interview Technology Applications, Census of Agriculture Updates, Census Follow-on Survey Plans, and Cultural Transformation Initiatives.

The Committee meeting is open to the public. The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC 20250.

Signed at Washington, DC, on February 2, 2012.
Joseph T. Reilly,
Associate Administrator.

[FR Doc. 2012-2817 Filed 2-7-12; 8:45 am]

BILLING CODE 3410-20-P